DEPARTMENT OF HOMELAND SECURITY

U.S. Customs and Border Protection

Test to Collect Facial Images From Occupants in Moving Vehicles at the Anzalduas Port of Entry (Anzalduas Biometric Test)

AGENCY: U.S. Customs and Border Protection; Department of Homeland Security.

ACTION: General notice.

SUMMARY: This notice announces that U.S. Customs and Border Protection (CBP) is conducting a voluntary test to collect biometrics, namely facial images, from travelers who choose to participate and who are entering or departing the United States via moving motor vehicles at the Anzalduas, Texas, land border port of entry (Anzalduas Biometric Test). CBP is conducting this test to determine the effectiveness of certain technology. Specifically, the test will: Evaluate the technology's effectiveness to capture a quality facial image for occupants within a vehicle while that vehicle is moving; evaluate biometric matching accuracy of images captured; and, evaluate transaction time for matching images captured. CBP will not use facial images collected during this test to identify threats or determine admissibility. All analysis of the facial images collected during this test will be conducted off-line at a later time, and no information collected during this test will be retained in association with an individual's official border-crossing records. This notice describes the purpose of the test as well as how the facial images collected will be used. It also describes the test procedures, the persons covered, the duration of the test, how CBP will analyze the results, and privacy considerations.

DATES: This voluntary test began August 30, 2018, and will run for approximately one year.

FOR FURTHER INFORMATION CONTACT: Colleen Manaher, Executive Director, Planning, Program Analysis and Evaluation, U.S. Customs and Border Protection at (202) 344-3003 or colleen.manaher@cbp.dhs.gov.

SUPPLEMENTARY INFORMATION:

Background

The Department of Homeland Security (DHS) has broad authority to control alien travel and to inspect aliens under various provisions of the Immigration and Nationality Act of 1952, as amended (INA).¹

¹ DHS may require aliens to provide biometrics and other relevant identifying information upon entry to, or departure from, the United States. Specifically, DHS may control alien entry and departure and inspect aliens under sections 215(a) and 235 of the INA (8 U.S.C. 1185, 1225). Aliens may be required to provide fingerprints, photographs, or other biometrics upon arrival in, or departure from, the United States, and select classes of aliens may be required to provide information at any time. See, e.g., INA 214, 215(a), 235, 262(a), 263(a), 264(c), (8 U.S.C. 1184, 1185(a), 1225, 1302(a), 1303(a), 1304(c)); 8 U.S.C. 1365b.

In addition, numerous federal statutes require DHS to create an integrated, automated biometric entry and exit system that records the arrival and departure of aliens, compares the biometric data of aliens to verify their identity, and authenticates travel documents presented by such aliens through the comparison of biometrics.²

² As used in this notice, “biometrics” means a physical characteristic or other physical attribute unique to a person that can be collected, stored, and used to verify the identity of a person who chooses to participate in the test by using the testing lanes, as defined in the “Test Procedures” section below. To verify a person's identity, a similar physical characteristic or attribute is collected and compared against the previously collected identifier.

The federal statutes requiring DHS to create a biometric entry and exit system to record the arrival and departure of aliens include, but are not limited to:

• Section 110 of the Illegal Immigration Reform and Immigrant Responsibility Act of 1996, Public Law 104-208, 110 Stat. 3009-546;

• Section 2(a) of the Immigration and Naturalization Service Data Management Improvement Act of 2000 (DMIA), Public Law 106-215, 114 Stat. 337;

• Section 205 of the Visa Waiver Permanent Program Act of 2000, Public Law 106-396, 114 Stat. 1637, 1641;

• Section 414 of the Uniting and Strengthening America by Providing Appropriate Tools Required to Intercept and Obstruct Terrorism Act of 2001 (USA PATRIOT Act), Public Law 107-56, 115 Stat. 272, 353;

• Section 302 of the Enhanced Border Security and Visa Entry Reform Act of 2002 (Border Security Act), Public Law 107-173, 116 Stat. 543, 552;

• Section 7208 of the Intelligence Reform and Terrorism Prevention Act of 2004 (IRTPA), Public Law 108-458, 118 Stat. 3638, 3817;

• Section 711 of the Implementing Recommendations of the 9/11 Commission Act of 2007, Public Law 110-52, 121 Stat. 266;

• Section 802 of the Trade Facilitation and Trade Enforcement Act of 2015, Public Law 114-125, 130 Stat. 122, 199 (6 U.S.C. 211(c)(10)).

Additionally, on March 6, 2017, the President signed Executive Order 13780, Protecting the Nation from Foreign Terrorist Entry into the United States (published in the Federal Register on March 9, 2017; 82 FR 13209). Section 8 of this Order requires the Secretary of Homeland Security to expedite the completion and implementation of a biometric entry-exit tracking system for “in-scope travelers” ³ to the United States.

³ Although the term “in-scope travelers” is not defined in the Executive Order, DHS interprets this to mean those travelers who are currently required to provide biometric information upon entry to the United States.

Pursuant to various authorities under Titles 8 and 19 of the U.S. Code, and other authorities CBP enforces on behalf of third party agencies at the border, CBP routinely collects biographic data from travelers entering and departing the United States. See, e.g., 8 U.S.C. 1181, 1185, 1221; and 19 U.S.C. 1433. Additionally, DHS regulations authorize DHS to collect biometric data from certain aliens seeking admission to the United States and to collect biometrics from aliens upon departure from the United States under pilot programs at land ports and up to 15 air and seaports. See Sections 215.8 and 235.1(f)(1)(ii) of Title 8 of the Code of Federal Regulations (CFR) (8 CFR 215.8 and 235.1(f)(1)(ii).⁴

⁴ Certain categories of aliens are exempt from the collection of biometrics upon entering or departing the United States. See 8 CFR 235.1(f)(1)(ii), (iv); 8 CFR 215.8(a)(1)-(2).

Since 2004, DHS, through CBP, has been collecting biometric data from aliens arriving in the United States. However, there is no comprehensive system in place to collect biometrics from aliens departing the country. Collecting biometrics at both arrival and departure will enable CBP and DHS to know with better accuracy whether aliens are departing the country when they are required to depart, reduce visa or travel document fraud, and improve CBP's ability to identify criminals and known or suspected terrorists before they depart the United States.

CBP has been testing various options to collect biometrics at departure in the land and air environments. For example, from February to May 2016, CBP conducted a pilot program to test facial and iris scanning technology for pedestrian travelers departing through the Otay Mesa, California, land border port of entry.⁵ CBP is also conducting pilots at some airports to evaluate the effectiveness of biometric facial recognition matching of a real-time photograph of an individual to a photograph gallery stored in a database.

⁵ See 80 FR 70241 (Nov. 31, 2015).

CBP is now conducting a test that involves the collection of facial images from occupants in moving vehicles as they enter and exit the United States at the Anzalduas land border port of entry (Anzalduas Biometric Test). This notice describes the purpose of the test as well as how the facial images collected will be used. It also describes the test procedures, the persons covered, the duration of the test, how CBP will analyze the results, and privacy considerations.

Anzalduas Biometric Test

Overview and Purpose

The Anzalduas Biometric Test is a voluntary test to collect biometrics, namely facial images, from travelers who choose to participate and who are entering or departing the United States via moving motor vehicles at the Anzalduas, Texas, land border port of entry. This test will help CBP determine the effectiveness of certain technology used to capture a quality facial image for occupants within a vehicle while that vehicle is moving, evaluate biometric matching accuracy of images captured, and evaluate transaction time to conduct a match of images captured to determine whether a real-time match could be provided to the CBP Officer. This test is one of CBP's key efforts in developing the capability to fulfill DHS's mandate to collect biometric information from arriving and departing aliens. The test procedures will operate in conjunction with CBP's normal entry-exit processes but facial images collected during this test will not be used to identify threats or to determine admissibility.

Normal Entry/Exit Procedures Remain In Place

During this test, the normal entry/exit procedures will apply. This means that all persons seeking admission at the Anzalduas land border port of entry must show a valid passport or other acceptable travel document when entering the United States. Some aliens may also be required to provide fingerprint biometric data for CBP to verify their identity upon entry.⁶ All persons exiting the United States at the Anzalduas land border port of entry may be subject to additional screening. Some aliens may also be required to provide fingerprint biometric data for CBP to verify their identity upon exit.

⁶ Certain aliens, including individuals traveling on A or G visas and others as specified in 8 CFR 215.8 and 235.1, are exempt from this requirement.

The facial images collected during this test will not be analyzed by CBP officers at the time the traveler enters or exits. Rather, the facial matching technology will perform matching analysis, which will be reviewed and analyzed by CBP analysists on the back end for accuracy, as described below. Therefore, the entry and exit procedures for both travelers and CBP officers at the Anzalduas port of entry will not change as a result of this test.

Test Procedures

For this test, cameras have been installed at both entry and exit lanes which will attempt to capture facial images of all occupants in vehicles traveling in designated arrival and departure lanes (“testing lanes”) as the vehicles move through the lane. The cameras are located prior to the inspection booths where travelers present their travel documentation to CBP officers. This process is completely passive for the vehicle occupants and does not require the travelers to engage in any additional action outside of the normal CBP processing on entry or exit. All travelers are subject to inspection upon entry to and exit from the United States, but U.S. citizens and certain categories of aliens are not specifically required to provide biometrics pursuant to 8 CFR 235.1(f)(1)(ii) and 215.8. For purposes of this pilot, CBP has provided an optional lane, both inbound and outbound, where no facial images will be captured for biometric matching purposes (“non-testing lane”). Due to the difficulty of sorting vehicle occupants by citizenship or category while they are in a moving vehicle, the non-testing lane is available for use by any vehicle, regardless of the occupants' citizenship or status. CBP has posted signs sufficiently in advance of lane divisions to allow drivers to select their desired lane. Other than signs indicating non-testing lanes or a flash of light in the testing lanes when a photo is taken, the travelers should not notice any differences in the wait times or experience of crossing at the Anzalduas port of entry.

Use of Facial Images Collected During the Test

CBP will create a photograph gallery of border crossers, which will include the photographs captured by the cameras at both entry and exit operations during this test. This gallery will also include photos and biographical information from travelers' document(s) ⁷ that were previously captured by CBP or another government agency and which are associated with travelers whose facial images were captured during this test. CBP will not store or use facial images captured from out-of-scope aliens or U.S. citizens for the purposes of this test. If an out-of-scope alien or U.S. citizen chooses to travel through the testing lanes and his or her facial image is captured, the image will be deleted as soon as it is identified as an out-of-scope alien or U.S. citizen by the analysts comparing the matching results of the technology as described below.

⁷ Traveler documents include but are not limited to: passports, visas, and trusted traveler radio-frequency identification (RFID) cards such as Border Crossing Cards, Enhanced Driver's Licenses, passport cards, and tribal cards. See 8 CFR 235.1 for complete travel document requirements.

The facial recognition technology will compare live images captured during the vehicle crossings with the photos and biographic information on file and will attempt to match the captured images with identified facial images in the photograph gallery. All facial images captured during this test, and previously collected traveler photos and associated document data will be stored in a secure, standalone database and analyzed off-line to test the biometric matching capabilities of the technology. No biometric data will be distributed from the standalone database, except for analysis and reporting purposes on the results of the test.⁸

⁸ As noted above, facial images collected from exempt aliens or U.S. citizens will be deleted as soon as they are identified as an exempt alien or U.S. citizen.

In order to determine the accuracy of the biometric matching system, CBP analysts will compare the matching results produced by the facial recognition technology with stored traveler data (e.g., RFID card scans, traveler biographical information collected by an officer from travel documents, and license plate data). By reviewing traveler data that are matched to test images by the system, CBP analysts can confirm that the traveler associated with a given individual record with which the technology matched a given facial image did in fact cross the Anzalduas port of entry on a particular day. For example, if the technology matches a captured facial image to the photograph on a certain individual's travel document, an analyst could review the border crossing biographical records from that day to confirm that the individual identified by the technology did cross that day. Alternatively, if the analyst finds no record of that individual crossing on the particular day, CBP may need to do further analysis on the match provided by the technology to determine if there is a “false match” or some other issue. The biographical information provides an additional level of verification to determine the accuracy of the facial matching technology.

Persons Covered

Participation in the test is voluntary. All individuals entering or exiting the United States at the Anzalduas port of entry in a vehicle may participate by entering and/or exiting through the testing lanes. Individuals who choose not to participate may use the non-testing lanes. No person or group of people will be required to use the testing lanes and there will be no penalty for using the non-testing lanes.

Duration of Test

This voluntary test began August 30, 2018, and will run for approximately one year.

Analysis of Results

CBP will generally retain facial images collected during this test until December 2020 for the sole purpose of testing facial recognition technology against a photograph gallery that most closely simulates CBP's operational land environment.⁹ All analysis will be performed on the back end using the standalone database created for this test. CBP will use the results of this test to assess the operational feasibility of collecting biometric information from occupants in moving vehicles entering and exiting at all U.S. land border ports of entry. CBP will evaluate the test based on a number of criteria, including:

⁹ As noted above, facial images collected from exempt aliens or U.S. citizens will be deleted as soon as they are identified as an exempt alien or U.S. citizen. Further information about the retention of facial images will be provided in CBP's Privacy Impact Assessment (PIA) for Traveler Verification Services (TVS). It will be available at http://www.dhs.gov/privacy-documents-us-customs-and-border-protection.

• The ability of the technology to capture high-quality facial images in vehicles traveling at various speeds, and in various lighting and weather conditions;

• the ability of the technology to correctly match the facial images captured to the correct individuals' facial image(s) on file; and,

• the transaction time to match the facial images captured to the photograph gallery to determine whether a real-time match could be provided to the CBP Officer performing traveler screening at the entry or exit lanes of the port.

Privacy

CBP will ensure that all Privacy Act requirements and applicable DHS privacy policies are adhered to during the implementation of this test. Additionally, as noted previously, CBP will be issuing a PIA for TVS, which will outline how CBP will ensure compliance with Privacy Act protections and DHS privacy policies, including DHS's Fair Information Practice Principles (FIPPs). The FIPPs account for the nature and purpose of the information being collected in relation to DHS's mission to preserve, protect and secure the United States. The PIA will address issues such as the security, integrity, and sharing of data, use limitation and transparency. The PIA will be made publicly available at: http://www.dhs.gov/privacy-documents-us-customs-and-border-protection.

CBP has also issued an update to the DHS/CBP-007 Border Crossing Information (BCI) System of Records, which fully encompasses all the data that is being collected at the Anzalduas land border port of entry for the purposes of this test. The system of records notice (SORN) was published in the Federal Register on December 13, 2016 (81 FR 89957).

Paperwork Reduction Act

The Paperwork Reduction Act (PRA) of 1995 (44 U.S.C. 3507(d)) requires that CBP consider the impact of paperwork and other information collection burdens imposed on the public. This information collection is covered by OMB control number 1651-0138. This information collection has been updated to include information being collected pursuant to this notice.

Dated: November 7, 2018.
Kevin K. McAleenan,
Commissioner.

[FR Doc. 2018-24850 Filed 11-13-18; 8:45 am]

BILLING CODE 9111-14-P